EXPORT-IMPORT BANK OF THE UNITED STATES

Economic Impact Policy

This notice is to inform the public that the Export-Import Bank of the United States has received an application for a $650 million long-term guarantee or direct loan to support the export of approximately $522 million worth of mining equipment to Australia. The repayment term of the guarantee or direct loan is 8.5 years. The U.S. exports will enable the Australian mining company to establish a maximum production capacity of 55 million metric tons of iron ore per year. Available information indicates that the iron ore will be consumed in Asian Markets including: China, Japan, Korea, and Taiwan. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2013-12272 Filed 5-22-13; 8:45 am]

BILLING CODE 6690-01-P